DEPARTMENT OF COMMERCE

Bureau of Industry and Security

15 CFR Parts 736 and 744

[Docket No. 0809021173-81210-01]

RIN 0694-AE46

Addition of Certain Persons to the Entity List; Removal of General Order From the Export Administration Regulations (EAR)

AGENCY: Bureau of Industry and Security, Commerce.

ACTION: Final rule.

SUMMARY: This rule amends the Export Administration Regulations (EAR) by adding additional persons to the Entity List (Supplement No. 4 to Part 744) on the basis of section 744.11 of the EAR. These additional persons being added to the Entity List have been determined by the U.S. Government to be acting contrary to the national security or foreign policy interests of the United States.

Two types of persons are being added to the Entity List by this rule. The first type is persons that were listed on General Order No. 3 prior to publication of this rule, that are now moved to the Entity List with publication of this rule. There were 33 persons listed on the general order and all of those persons are now listed on the Entity List with the publication of this rule. These were persons concerning whom the U.S. Government possessed information regarding the acquisition or attempted acquisition of electronic components and devices (“commodities”) capable of being used in the construction of Improvised Explosive Devices (“IEDs”). These commodities have been, and may continue to be, employed in IEDs or other explosive devices used against Coalition Forces in Iraq and Afghanistan.

The second type of persons being added to the Entity List with this rule are certain additional persons that were not previously listed on the general order, but are of concern to the U.S. Government for the same reasons as those other persons that were previously listed on the general order. This rule adds these additional persons to the Entity List also on the basis of section 744.11.

This rule removes and reserves the general order because all of the persons from the general order are now listed on the Entity List with the publication of this rule. The Entity List provides notice to the public that certain exports and reexports to parties identified on the Entity List require a license from the Bureau of Industry and Security (BIS) and that availability of License Exceptions in such transactions is limited.

DATES: This rule is effective September 22, 2008. Although there is no formal comment period, public comments on this regulation are welcome on a continuing basis.

ADDRESSES: You may submit comments, identified by RIN 0694-AE46, by any of the following methods:

E-mail: publiccomments@bis.doc.gov. Include “RIN 0694-AE46” in the subject line of the message.

Fax: (202) 482-3355. Please alert the Regulatory Policy Division, by calling (202) 482-2440, if you are faxing comments.

Mail or Hand Delivery/Courier: Timothy Mooney, U.S. Department of Commerce, Bureau of Industry and Security, Regulatory Policy Division, 14th St. & Pennsylvania Avenue, NW., Room 2705, Washington, DC 20230, Attn: RIN 0694-AE46.

Send comments regarding the collection of information associated with this rule, including suggestions for reducing the burden, to Jasmeet Seehra, Office of Management and Budget (OMB), by e-mail to jseehra@omb.eop.gov, or by fax to (202) 395-7285; and to the Regulatory Policy Division, Bureau of Industry and Security, Department of Commerce, 14th St. & Pennsylvania Avenue, NW., Room 2705, Washington, DC 20230. Comments on this collection of information should be submitted separately from comments on the final rule (i.e. RIN 0694-AE46)—all comments on the latter should be submitted by one of the three methods outlined above.

FOR FURTHER INFORMATION CONTACT: Karen Nies-Vogel, End-User Review Committee, Office of the Assistant Secretary for Export Administration, Bureau of Industry and Security, Department of Commerce, Phone: (202) 482-3811, Fax: (202) 482-3911, e-mail: kniesv@bis.doc.gov.

SUPPLEMENTARY INFORMATION:

Background

In Supplement No. 4 to part 744 (The Entity List), this rule adds 108 persons to the Entity List on the basis of section 744.11 of the EAR. In total, this rule adds 115 new entries to the Entity List, including seven (7) additional entries for newly added persons with multiple addresses. Eight (8) of the entries being added include aliases for persons being added. The Entity List provides notice to the public that certain exports and reexports to parties identified on the Entity List require a license from the Bureau of Industry and Security (BIS) and that availability of License Exceptions in such transactions is limited.

These additional persons being added to the Entity List have been determined by the U.S. Government to be acting contrary to the national security or foreign policy interests of the United States. Specifically, these parties are of concern to the United States Government under section 744.11 (License Requirements that Apply to Entities Acting Contrary to the National Security or Foreign Policy Interests of the United States) of the EAR.

Pursuant to Supplement No. 5 to Part 744 (Procedures for End-User Review Committee Entity List Decisions), the End-User Review Committee (ERC) made the decision to add these 108 persons to the Entity List on the basis of section 744.11. The ERC, composed of representatives of the Departments of Commerce, State, Defense, Energy and, where appropriate, the Treasury, make all decisions to make additions to, removals from or changes to the Entity List. The ERC is chaired by the Department of Commerce and will make all decisions to add an entry to the Entity List by majority vote and all decisions to remove or modify an entry by unanimous vote.

The ERC reviewed section 744.11(b) (Criteria for revising the Entity List) in making the determinations to add these persons to the Entity List. Under that paragraph, entities for which there is reasonable cause to believe, based on specific and articulable facts, that the entity has been involved, is involved, or poses a significant risk of being or becoming involved in activities that are contrary to the national security or foreign policy interests of the United States and those acting on behalf of such entities may be added to the Entity List pursuant to section 744.11. Paragraph (b) includes an illustrative list of activities that could be contrary to the national security or foreign policy interests of the United States, including paragraph (b)(1) (Supporting persons engaged in acts of terror).

As was noted in the final rule that added section 744.11 to the EAR on August 21, 2008 (73 FR 49311), the persons described in General Order No. 3 in Supplement No. 1 to part 736 of the EAR would be considered persons engaged in acts of terror for purposes of section 744.11 of the EAR. However, given that the general order predated the expansion of the Entity List (i.e., the general order was first published on June 5, 2006 and later amended on September 6, 2006 and June 8, 2007), BIS had to rely on the ad hoc procedure of issuing a general order and later amending that general order to impose a license requirement on these persons of concern. With the addition of section 744.11 to the EAR, BIS can now move these persons from the general order to the Entity List, which BIS believes will simplify the EAR by reducing the need to issue general orders to impose license requirements on specific parties, thereby reducing the number of EAR provisions that the public would be required to review to determine license requirements under the EAR.

Introduction to the General Order

Pursuant to 15 CFR parts 736 and 744, General Order No. 3, which was published on June 5, 2006 and subsequently amended on September 6, 2006, imposes a license requirement for exports and reexports of all items subject to the EAR (15 CFR 730-774) where the transaction involved Mayrow General Trading (“Mayrow”) or related entities. The initial general order and the subsequent September 2006 amendment listed persons who were related to Mayrow and concerning whom the U.S. Government possessed information regarding the acquisition or attempted acquisition of electronic components and devices (“commodities”) capable of being used in the construction of Improvised Explosive Devices (“IEDs”). These commodities have been, and may continue to be, employed in IEDs or other explosive devices used against Coalition Forces in Iraq and Afghanistan.

In light of additional information that the U.S. Government received regarding continuing activity relating to commodities that are capable of use in the construction of IEDs, as well as a broader concern relating to the risk of diversion of commodities for such a purpose, the general order was subsequently amended in a rule published on June 8, 2007 that expanded the scope of the general order. Sixteen additional persons who fit within the expanded scope of the order were also listed at that time.

Pursuant to the June 8, 2007 expansion, the general order imposes a license requirement for exports and reexports of all items subject to the EAR where the transaction involves persons in one of two groups. First, the general order covers persons whom the U.S. Government has reason to believe, based on specific and articulable facts, are affiliated with or related to Mayrow. Inclusion of such persons guards against the risk that persons may attempt to evade the general order's bar on unlicensed exports or reexports to Mayrow by diverting commodities to Mayrow or to persons who are affiliated with or related to Mayrow. The general order covers such persons by specifically listing them.

Second, the general order covers persons whom the U.S. Government has reason to believe, based on specific and articulable facts, have acquired or attempted to acquire commodities that are capable of being used in the construction of IEDs. These commodities have been, and may continue to be, employed in IEDs or other explosive devices used against Coalition Forces in Iraq and Afghanistan. The general order covers such persons by specifically listing them. To guard against the risk of diversion of such commodities for IED-related purposes, the order also specifically lists the persons who are affiliated with or related to such persons.

Removal of General Order From the EAR

In Supplement No. 1 to part 736 (General Orders), this rule removes and reserves the general order because all of the persons from the general order will now be listed on the Entity List with the publication of this rule.

Persons Being Added to the Entity List

The persons being added to the Entity List with this rule can be broken down into two types of persons. The first type is persons that were listed on General Order No. 3, prior to publication of this rule, that are now moved to the Entity List with publication of this rule. There were 33 persons listed on the general order and all of those persons are now listed on the Entity List with the publication of this rule.

The second type of persons being added to the Entity List with this rule is 75 additional persons that were not previously listed on the general order, but are of concern to the U.S. Government for the same reasons as those other persons that were previously listed on the general order. This rule adds these additional persons to the Entity List also on the basis of section 744.11.

Implementation of the ERC Decision

This rule implements the decision of the ERC to add these 108 persons to the Entity List on the basis of section 744.11 of the EAR. For these persons being added to the Entity List, the ERC decided to specify a license requirement for all items subject to the EAR and establish a license application review policy of a general policy of denial. A license requirement applies to any transaction in which items are to be exported or reexported to such persons or in which such persons acts as purchaser, intermediate consignee, ultimate consignee, or end-user. In addition, the ERC decided that no license exceptions are available for shipments to those persons being added to the Entity List.

In addition, the ERC decided to add separate listings on the Entity List for persons that had additional addresses in multiple countries (seven had addresses in multiple countries). Persons with aliases were included in the same entries (eight persons had aliases). In total, 115 additional entries are being added to the Entity List with this rule. For those entries with multiple addresses a note will be included in the Entity List column entry for each of those entries that will direct exporters to the alternate listing on the Entity List. BIS is adding these additional entries to assist the public in better identifying these persons of concern.

Specifically, this rule adds the following 108 persons under 115 entries, to account for the 7 persons with addresses in multiple countries, to the Entity List:

Note: Persons designated by an asterisk in the following list were listed on the general order. Persons with multiple addresses have separate listings on the Entity List with cross references. Persons with aliases are listed in the same entry.

Canada

(1) Ali Bakhshien, 909-4005 Bayview Ave., Toronto, Canada M2M 3Z9; and

(2) Kitro Corporation, 909-4005 Bayview Ave., Toronto, Canada M2M 3Z9.

China, People's Republic of

(3) A.C. International, Room 1104, North Tower Yueziu City Plaza, No. 445 Dong Feng Zhong Rd., Guangzhou, China;

(4) Asia International Trading Company, Room 1104, North Tower Yueziu City Plaza, No. 445 Dong Feng Zhong Rd., Guangzhou, China; and

(5) Tracy Little, Room 1104, North Tower Yueziu City Plaza, No. 445 Dong Feng Zhong Rd., Guangzhou, China.

Egypt

(6) H Logic, Behind 14 Mahmoud Sedky St., El Ekbal, Alexandria, Egypt;

(7) Hesham Yehia, Behind 14 Mahmoud Sedky St., El Ekbal, Alexandria, Egypt; and

(8) Najeeb Al Awadhi, 14 Mahmoud Sedky St., El Ekbal, Alexandria, Egypt.

Germany

*(9) Akbar Ashraf Vaghefi, Koburgerstr 10, D-10825, Berlin, Germany (See alternate address under U.A.E.);

(10) Djamshid Nezhad, Poppentrade 25, D-24148, Kiel, Germany;

*(11) IKCO Trading GmbH, Schadowplatz 5, 40212 Dusseldorf, Germany; and

(12) Nezhad Enterprise Company, Poppentrade 25, D-24148 Kiel, Germany.

Hong Kong

(13) Amy So, Room 1701, New Commerce Centre, 19 On Sum St., Siu Lek Yuen, Shatin, N.T., Hong Kong;

(14) Antony Emmanuel, No: 3 & 4; 12F Commercial VIP Building, 112-116 Canton Rd, Tsim Sha Tsui, Hong Kong (See alternate address under U.A.E.);

(15) Asia Link, Flat 1022, 10/F, No. 1 Hung To Rd, Kwun Tong, Kowloon, Hong Kong;

(16) Britestone, 4/F, Chinabest International Centre, 8 Kwai On Rd, Kwai Chung, N.T., Hong Kong;

(17) Bruce Lam, 11/F Excelsior Bldg., 68-76 Sha Tsui Rd., Tsuen Wan, New Territories, Hong Kong;

(18) Creative Electronics, Room 2202c, 22/F, Nan Fung Centre, 264-298 Castle Peak Road, Hong Kong and G/F 1_J Wong Chuk Street Shamshuipo, Kowloon, Hong Kong;

*(19) Frank Lam, 1206-7, 12/F New Victory House, Hong Kong;

(20) Gary Chan, 4/F, Chinabest International Centre, 8 Kwai On Rd, Kwai Chung, N.T., Hong Kong;

(21) Green Channel Electronics Company, Unit 902, Ricky Center, 36 Chong Yip St., Kwun Tong, Kowloon, Hong Kong;

(22) Kong Fat Electronic Trading Limited, Unit 5, 1/F, Block A, Hoplite Industrial Centre, 3-5 Wang Tai Rd., Kowloon Bay, Kowloon, Hong Kong;

(23) Pelorus Enterprises Limited, 12F Commercial VIP Building, 112-116 Canton Rd, Tsim Sha Tsui, Hong Kong;

(24) Polar Star International Co. Ltd., 1905 Yen Sheng Center, 64 Hoi Yuen Rd., Kwun Tong, Kin, Hong Kong;

*(25) Speedy Electronics Ltd., 1206-7, 12/F New Victory House, Hong Kong;

(26) Techlink Electronics, Unit 5, 18/F, Laurels Industrial Centre, 32 Tai Yau St., San Po Kong, Kowloon, Hong Kong;

(27) TLG Electronics, Room 1701, New Commerce Centre, 19 On Sum St., Siu Lek Yuen, Shatin, N.T., Hong Kong;

(28) Unite Chance Technology Company, Workshop A14, 5/F, Block A Sheung Shui Plaza, 3 Ka Fu Close Sheung Shui, N.T., Hong Kong;

*(29) United Sources Industrial Enterprises, 11/F, Excelsior Building, 68-76 Sha Tsui Road, Hong Kong;

(30) Wing Shing Computer Components Company (H.K.) Ltd., Unit E, 9/F, Lladro Centre, 72 Hoi Yuen Rd, Kwon Tong, Kin, Hong Kong;

*(31) Y-Sing Components Limited, Unit 401, Harbour Ctr., Tower 2, 8 Hok Cheung Street, Hung Hom, Kowloon, Hong Kong.

Iran

(32) Aflak Micro Electronics, Tehranno 14, Golkade St., Arash Mehr Ave, Tehran, Iran;

(33) Ahmad Rahzad, a.k.a., Saeb Karim, 29, 1st Floor, Amjad Bldg, Jomhoori Ave, Tehran, Iran (See alternate address under Malaysia);

(34) Ali Reza Seif, 34 Mansour Street, Tehran, Iran;

(35) Arash Dadgar, No. 10, 64th St., Yousafabad, Tehran, Iran, 14368;

(36) Bahman Ghandi, a.k.a., Brian Ghandi, No, 14, Golkadeh St. Arashmehr St. Tehran, Iran;

(37) Elecomponents, Iran;

(38) Faradis Production, No 33, Second Floor, Amjad Electronic Center, Jomhouri Ave, Tehran, Iran;

(39) Farhad Maani, 67, 1st Floor, No. 3, Ebn-E Sina St., Mr. ValiAsr Ave, W. of Beheshti, Tehran, Iran;

*(40) GBNTT, No. 34 Mansour Street, Tehran, Iran;

(41) Golza Engineering Company, No. 80/1, Fourth Floor, North Sindokht St., Dr. Fatemi Ave, Tehran, 14118, Iran;

(42) Hamid Reza Ansarian, P.O. Box 19575-354, Tehran, Iran;

*(43) Iraj Najmi, No. 80/1, Fourth Floor, North Sindokht St., Dr. Fatemi Ave, Tehran, 14118, Iran;

(44) Maryan Jahanshahi, 34 Mansour St, Motahari-ValiAsr Street Junction, Tehran, Iran;

(45) Mohammed Narjespour, 34 Mansour St, ValiAsr-Motahari Crossing, Tehran, Iran;

(46) Moslem Nasiri, 34 Mansour St, ValiAsr-Motahari Crossing, Tehran, Iran;

(47) M.R. Ahmadi, P.O. Box 19575/199, Tehran, Iran;

(48) NBC Navegan Bar Co. Ltd., # 135 Khorramshahr Ave, Tehran 15338;

*(49) Neda Industrial Group, No. 10 and 12, 64th St. Jamalodin Asadabadi Avenue, Tehran, Iran;

*(50) Nedayeh Micron Electronics, No. 34 Mansour St., Tehran, Iran;

(51) Niasan Century Industry, Unit 2, GF, No:1, Marzban Name Alley, Mofateh St., Motahari Ave, 1588875333, Tehran, Iran;

(52) Rad Tavan Afza Company, 3rd Floor, No. 210, W. Fatemi, Tehran, Iran 14185387; and 1st Pars Bldg, Beg. Pars Alley, Betw Khosh & Behboudi St., Azadi Ave, Tehran, Iran;

(53) Sanaye Electronic Arman Ertebat Nemad Company (SAEN CO.), 67, 1st Floor, No. 3, Ebn-E Sina St., Mr. ValiAsr Ave, W. of Beheshti, Tehran, Iran;

(54) Simin Neda Industrial and Electrical Parts, No. 22, Second Floor, Amjad Bldg, Jomhoori Ave, Tehran, Iran;

(55) Toos Electronics, 29, 1st Floor, Amjad Bldg, Jomhoori Ave, Tehran, Iran; and

(56) Vizneh Trading Company, 34 Mansour St., Motahari and ValiAsr Junction, Tehran, Iran, 1595747764.

Kuwait

(57) Advanced Technology General Trading Company, Hawalli, Bin Khaldoun St., Fadhalah Complex, Mizzanin, Office #4, P.O. Box 22682, Safat, 13087, Kuwait. (See alternate address under U.A.E.);

(58) Abubakr Abuelazm, Hawalli, Bin Khaldoun St., Fadhalah Complex, Mizzanin, Office #4, P.O. Box 22682, Safat, 13087, Kuwait (See alternate address under U.A.E.).

Lebanon

*(59) EKT Electronics, 1st floor, Hujij Building, Korniche Street, P.O. Box 817 No. 3, Beirut, Lebanon (See alternate address under Syria); and

*(60) Mohammed Katranji, 1st floor, Hujij Building, Korniche Street, P.O. Box 817 No. 3, Beirut, Lebanon (See alternate address under Syria).

Malaysia

(61) Ace Hub System, No. 15, Jalan PJS 11/16, Taman Bandar Sunway, 46150 Petaling Jaya, Selangor, Malaysia;

(62) Ahmad Rahzad, a.k.a., Saeb Karim, 27-06, Amcorp Bldg, Jalan 18, Persiaran Barat, Petaling Jaya, 46050 Selangor, Malaysia (See alternate address under Iran);

(63) Analytical Solutions, #GB (Ground Floor), Pearl Tower, O.G. Heights, Jalan Awan Cina, 58200 Kuala Lampur, Malaysia;

(64) Ann Teck Tong, 97C, Jalan Kenari 23, Puchong Jaya, Puchong, Selangor, Malaysia Suite D23, Tkt. 2, Plaza Pekeliling, Jalan Tun Razak, Kuala Lumpur, Wilayah, Peresekkutuan, Malaysia;

(65) Antcorp System, 5-02 Wisma Pantai, Jalan Wisma Pantai, 12200 Butterworth, Penang, Malaysia;

(66) Brian Kaam, a.k.a., Kaam Chee Mun, No. 15, Jalan PJS 11/16, Taman Bandar Sunway, 46150 Petaling Jaya, Selangor, Malaysia;

(67) East Tech, Malaysia;

(68) Eco Biochem SDN BHD, No. 15, Jalan PJS 11/16, Taman Bandar Sunway, 46150 Petaling Jaya, Selangor D.E., Malaysia;

(69) Festsco Marketing SDN BHD, 97C, Jalan Kenari 23, Puchong Jaya, Puchong, Selangor, Malaysia and Suite D23, Tkt. 2, Plaza Pekeliling, Jalan Tun Razak; Kuala Lumpur, Wilayah Persekkutuan, Malaysia;

*(70) Majid Seif, a.k.a., Mark Ong and Matti Chong, 27-06 Amcorp Building, Jalan 18, Persiaran Barat 46050 Petaling Jaya, Selangor, Malaysia;

(71) Mohd Ansari, #GB (Ground Floor), Pearl Tower, O.G. Heights, Jalan Awan Cina, 58200 Kuala Lampur, Malaysia;

(72) Nexus Empire, a.k.a., Vast Solution 2706, Amcorp Bldg, Jalan Persiaran Barat, Petaling Jaya, Selangor, Malaysia;

*(73) Vast Solution Sdn Bhd., 27-06 Amcorp Building, Jalan 18, Persiaran Barat, 46050 Petaling Jaya, Selangor, Malaysia; and

(74) VTE Industrial Automation SDN BHD, 97C, Jalan Kenari 23, Puchong Jaya, Puchong, Selangor, Malaysia.

Singapore

(75) Cyberinn PTE LTD, 1 Rochor Canal Road, #06-07 Sim Lim Square, 188504, Singapore;

(76) Strive Components, Block 10 Toa Payoh Industrial Park Lor 8 #01-1221, Singapore, 319062; and

(77) Synoptics Imaging Systems Pte Ltd., 12 Lor Bakar Batu #06-09, Singapore, 348745.

South Korea

(78) WASTEC, Inc., a.k.a., With Advanced Systemic Technology, Room 3303, 3304, Na-Dong Chungang Circulation Complex, #1258, Gurobon-Dong, Guro-gu, Seoul, South Korea.

Syria

*(79) EKT Electronics, 1st floor, Abbasieh Building, Hijaz Street, P.O. Box 10112, Damascus, Syria (See alternate address under Lebanon);

*(80) Encyclopedia Electronics Center, Musalam Al-Baroudi Street, Halbouni, Damascus, Syria; and

(81) Mohammed Katranji, 1st floor, Abbasieh Building, Hijaz Street, P.O. Box 10112, Damascus, Syria (See alternate address under Lebanon).

United Arab Emirates

*(82) A.H. Shamnad, P.O. Box 42340, Dubai, U.A.E.; and No. 3-4 Sharafia Ahmed Ali Building, Al Nakheel, Deira, Dubai 396, U.A.E.;

(83) Abubakr Abuelazm, Dubai, U.A.E. (See alternate address under Kuwait);

(84) Advanced Technology General Trading Company, Hawalli, Bin Khaldoun St., Fadhalah Complex, Mizzanin, Office #4, P.O. Box 22682, Safat, 13087, Dubai, U.A.E. (See alternate address under Kuwait);

*(85) Akbar Ashraf Vaghefi, Shop No. 3-4 Sharafia Ahmed Ali Building, Al Nakheel, Deira, Dubai, U.A.E.; (See alternate address under Germany);

*(86) Al-Faris, RAK Free Zone, P.O. Box 10559, Ras Al Khaimah, U.A.E.;

*(87) Ali Akbar Yahya, 505 Siraj Building 17B Street, Mankhool, Dubai, U.A.E.;

(88) Ali Reza Divanizadeh, Al Ras Center Building, Behind Al Ras Hotel, Shop No. B-05, P.O. Box 5680, Dubai, U.A.E.;

*(89) Amir Mohammad Zahedi, RAK Free Zone, P.O. Box 10559, Ras Al Khaimah, U.A.E.;

(90) Antony Emmanuel, No: 3 & 4; Sharifia Ahmed Ali Bldg, P.O. Box 42340, Al Nakheel, Deira, Dubai, U.A.E. (See alternate address under Hong Kong);

*(91) Atlinx Electronics, Flat 401-Bin Yas Center—Al Maktum Road, P.O. Box 42340, Dubai, U.A.E.; and Shops 3-4, Sharafia Ahmed Ali Building, al-Nakheel, Deira, Dubai, U.A.E.;

(92) Danoush Trading Company, No. 104, Beside Kheibar Hotel, Morshed Market St., Dubai, U.A.E.;

(93) Divanizadeh General Trading Company, Al Ras Center Building, Behind Al Ras Hotel, Shop No. B-05, P.O. Box 5680, Dubai, U.A.E.;

*(94) Farrokh Nia Yaghmaei, a.k.a., Farrokh Nia Yaghmayi, Flat 401-Bin Yas Center—Al Maktum Road, P.O. Box 42340, Dubai, U.A.E.; and Shops 3-4, Sharafia Ahmed Ali Building, al-Nakheel, Deira, Dubai, U.A.E.;

(95) Feroz Jafar, Al Salam St., P.O. Box 2946, Abu Dhabi, U.A.E.;

*(96) H. Ghasir, Flat 401-Bin Yas Center—Al Maktum Road, P.O. Box 42340, Dubai, UAE; and Shops 3-4, Sharafia Ahmed Ali Building, al-Nakheel, Deira, Dubai, U.A.E.;

(97) Hamed Al Fahid Trading Company, Shop No. 3-4 Ahmed Ali Bldg, Al Jalel, Deira, Dubai, U.A.E.;

*(98) Hamed Athari, No. 3-4 Sharafia Ahmed Ali Building, Al Nakheel, Deira, Dubai 396, U.A.E.;

*(99) Majidco Micro Electronics, Flat 401-Bin Yas Center—Al Maktum Road, P.O. Box 42340, Dubai, U.A.E.; and Shops 3-4, Sharafia Ahmed Ali Building, al-Nakheel, Deira, Dubai, U.A.E.;

*(100) Mayrow General Trading, Flat 401-Bin Yas Center—Al Maktum Road, P.O. Box 42340, Dubai, U.A.E.; Shops 3-4, Sharafia Ahmed Ali Building, al-Nakheel, Deira, Dubai, U.A.E.; P.O. Box 42340, Deira, Dubayy, U.A.E.; and P.O. Box 171978, Deira, Dubayy, U.A.E.;

*(101) Mayrow Technics Co., No. 3-4 Sharafia Ahmed Ali Building, Al Nakheel, Deira, Dubai 396, U.A.E.;

(102) Mehdi Rafie, Shop No. 3 & 4, Sharafia Ahmed Ali Bldg, Al Nakheel St., Deira, P.O. Box 171978, Dubai, U.A.E.;

(103) Mehran Kamalinia, a.k.a., Ronald Simon, Shop No. 3 & 4, Sharafia Ahmed Ali Bldg, Al Nakheel St., Deira, P.O. Box 171978, Dubai, U.A.E.;

*(104) Micatic General Trading, Flat 401-Bin Yas Center—Al Maktum Road, P.O. Box 42340, Dubai, U.A.E.; and Shops 3-4, Sharafia Ahmed Ali Building, al-Nakheel, Deira, Dubai, U.A.E.;

*(105) Micro Middle East Electronics, Flat 401-Bin Yas Center—Al Maktum Road, P.O. Box 42340, Dubai, U.A.E.; and Shops 3-4, Sharafia Ahmed Ali Building, al-Nakheel, Deira, Dubai, U.A.E.;

(106) Mohsen Saghafi, Shop No. 3 & 4, Sharafia Ahmed Ali Bldg, Al Nakheel St., Deira, P.O. Box 171978, Dubai, U.A.E.;

(107) Mostafa Salehi, No. 308, 3rd Floor, Rafi Center, Al Nakheel, Deira, Dubai, U.A.E.;

*(108) Narinco, Flat 401-Bin Yas Center—Al Maktum Road, P.O. Box 42340, Dubai, U.A.E.; and Shops 3-4, Sharafia Ahmed Ali Building, al-Nakheel, Deira, Dubai, U.A.E.;

(109) Neda Kargar, No. 308, 3rd Floor, Rafi Center, Al Nakheel, Deira, Dubai, U.A.E.;

*(110) Neda Overseas Electronics L.L.C., No. 308, 3rd Floor, Rafi Center, Al Nakheel, Deira, Dubai, U.A.E.;

*(111) Pyramid Technologies, P.O. Box 42340, Dubai, U.A.E.; and No. 3-4, Sharafia Ahmed Ali Building, Al Nakheel, Deira, Dubai 396, U.A.E.;

*(112) S. Basheer, No. 3-4 Sharafia Ahmed Ali Building, Al Nakheel, Deira, Dubai 396, U.A.E.;

*(113) Sayed-Ali Hosseini, 201 Latifah Building, Al Maktoum St., Dubai, U.A.E.;

(114) Shaji Muhammed Basheer, Shop No. 3 & 4, Sharafia Ahmed Ali Bldg, Al Nakheel St., Deira, P.O. Box 171978, Dubai, U.A.E.; and

(115) Telectron, Al Salam St., P.O. Box 2946, Abu Dhabi, U.A.E.

Under these entries on the Entity List, a BIS license is required for the export or reexport of any item subject to the EAR to any of the persons listed above, including any transaction in which any of the listed persons will act as purchaser, intermediate consignee, ultimate consignee, or end-user of the items. This listing of these persons also prohibits the use of License Exceptions (see part 740 of the EAR) for exports and reexports of items subject to the EAR involving such persons.

Although the Export Administration Act expired on August 20, 2001, the President, through Executive Order 13222 of August 17, 2001, 3 CFR, 2001 Comp., p. 783 (2002), as extended by the Notice of July 23, 2008, 73 FR 43603 (July 25, 2008), has continued the Export Administration Regulations in effect under the International Emergency Economic Powers Act.

Rulemaking Requirements

1. This rule has been determined to be significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 58 minutes to prepare and submit form BIS-748. Miscellaneous and recordkeeping activities account for 12 minutes per submission. Total burden hours associated with the Paperwork Reduction Act and Office of Management and Budget control number 0694-0088 are expected to increase slightly as a result of this rule.

3. This rule does not contain policies with Federalism implications as that term is defined in Executive Order 13132.

4. The provisions of the Administrative Procedure Act (5 U.S.C. 553) requiring notice of proposed rulemaking, the opportunity for public participation, and a delay in effective date, are inapplicable because this regulation involves a military or foreign affairs function of the United States. (See 5 U.S.C. 553(a)(1)) Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects

15 CFR Part 736

Exports, Foreign trade.

15 CFR Part 744

Exports, Reporting and recordkeeping requirements, Terrorism.

Accordingly, parts 736 and 744 of the Export Administration Regulations (15 CFR parts 730-774) are amended as follows:

PART 736—[AMENDED]

1. The authority citation for 15 CFR part 736 is revised to read as follows:

Authority: 50 U.S.C. app. 2401 et seq.; 50 U.S.C. 1701 et seq.; 22 U.S.C. 2151 note; E.O. 12938, 59 FR 59099, 3 CFR, 1994 Comp., p. 950; E.O. 13020, 61 FR 54079, 3 CFR, 1996 Comp. p. 219; E.O. 13026, 61 FR 58767, 3 CFR, 1996 Comp., p. 228; E.O. 13222, 66 FR 44025, 3 CFR, 2001 Comp., p. 783; E.O. 13338, 69 FR 26751, May 13, 2004; Notice of July 23, 2008, 73 FR 43603 (July 25, 2008); Notice of November 8, 2007, 72 FR 63963 (November 13, 2007).

2. General Order 3 to Supplement No. 1 to part 736 is removed and reserved.

Part 744—[AMENDED]

3. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of July 23, 2008, 73 FR 43603 (July 25, 2008); Notice of November 8, 2007, 72 FR 63963 (November 13, 2007).

4. Supplement No. 4 to part 744 is amended:

(a) By adding, in alphabetical order, the countries of Canada, Egypt, Germany, Hong Kong, Kuwait, Lebanon, Malaysia, Singapore, and South Korea, and two Canadian entities, three Egyptian entities, four German entities, nineteen Hong Kong entities, two Kuwaiti entities, two Lebanese entities, fourteen Malaysian entities, three Singaporean entities, and one South Korean entity;

(b) By adding under China, in alphabetical order, three Chinese entities;

(c) By adding under Iran, in alphabetical order, twenty-five Iranian entities;

(d) By adding under Syria, in alphabetical order, three Syrian entities; and

(e) By adding under United Arab Emirates, in alphabetical order, thirty-four UAE entities to read as follows:

Supplement No. 4 to Part 744—Entity List
Country | Entity | License requirement | License review policy | Federal Register citation
* * * * * * *
Canada | Ali Bakhshien, 909-4005 Bayview Ave., Toronto, Canada M2M 3Z9 | For all items subject to the EAR. (See § 744.11 of the EAR) | Presumption of denial | 73 FR [INSERT FR PAGE NUMBER] 09/22/08.
| Kitro Corporation, 909-4005 Bayview Ave., Toronto, Canada M2M 3Z9 | For all items subject to the EAR. (See § 744.11 of the EAR) | Presumption of denial | 73 FR [INSERT FR PAGE NUMBER] 09/22/08.
* * * * * * *
China, People's Republic of | A.C. International, Room 1104, North Tower Yueziu City Plaza, No. 445 Dong Feng Zhong Rd., Guangzhou, China | For all items subject to the EAR. (See § 744.11 of the EAR) | Presumption of denial | 73 FR [INSERT FR PAGE NUMBER] 09/22/08.
| Asia International Trading Company, Room 1104, North Tower Yueziu City Plaza, No. 445 Dong Feng Zhong Rd., Guangzhou, China | For all items subject to the EAR. (See § 744.11 of the EAR) | Presumption of denial | 73 FR [INSERT FR PAGE NUMBER] 09/22/08.
* * * * * * *
| Tracy Little, Room 1104, North Tower Yueziu City Plaza, No. 445 Dong Feng Zhong Rd., Guangzhou, China | For all items subject to the EAR. (See § 744.11 of the EAR) | Presumption of denial | 73 FR [INSERT FR PAGE NUMBER] 09/22/08.
* * * * * * *
Egypt | H Logic, Behind 14 Mahmoud Sedky St., El Ekbal, Alexandria, Egypt | For all items subject to the EAR. (See § 744.11 of the EAR) | Presumption of denial | 73 FR [INSERT FR PAGE NUMBER] 09/22/08.
| Hesham Yehia, Behind 14 Mahmoud Sedky St., El Ekbal, Alexandria, Egypt | For all items subject to the EAR. (See § 744.11 of the EAR) | Presumption of denial | 73 FR [INSERT FR PAGE NUMBER] 09/22/08.
| Najeeb Al Awadhi, 14 Mahmoud Sedky St., El Ekbal, Alexandria, Egypt | For all items subject to the EAR. (See § 744.11 of the EAR) | Presumption of denial | 73 FR [INSERT FR PAGE NUMBER] 09/22/08.
Germany | Akbar Ashraf Vaghefi, Koburgerstr 10, D-10825, Berlin, Germany (See alternate address under U.A.E.) | For all items subject to the EAR. (See § 744.11 of the EAR) | Presumption of denial | 73 FR [INSERT FR PAGE NUMBER] 09/22/08.
| Djamshid Nezhad, Poppentrade 25, D-24148, Kiel, Germany | For all items subject to the EAR. (See § 744.11 of the EAR) | Presumption of denial | 73 FR [INSERT FR PAGE NUMBER] 09/22/08.
| IKCO Trading GmbH, Schadowplatz 5, 40212, Dusseldorf, Germany | For all items subject to the EAR. (See § 744.11 of the EAR) | Presumption of denial | 73 FR [INSERT FR PAGE NUMBER] 09/22/08.
| Nezhad Enterprise Company, Poppentrade 25, D-24148, Kiel, Germany | For all items subject to the EAR. (See § 744.11 of the EAR) | Presumption of denial | 73 FR [INSERT FR PAGE NUMBER] 09/22/08.
Hong Kong | Amy So, Room 1701, New Commerce Centre, 19 On Sum St., Siu Lek Yuen, Shatin, N.T., Hong Kong | For all items subject to the EAR. (See § 744.11 of the EAR) | Presumption of denial | 73 FR [INSERT FR PAGE NUMBER] 09/22/08.
| Antony Emmanuel, No.: 3 &4; 12F Commercial VIP Building, 112-116 Canton Rd., Tsim Sha Tsui, Hong Kong (See alternate address under U.A.E.) | For all items subject to the EAR. (See § 744.11 of the EAR) | Presumption of denial | 73 FR [INSERT FR PAGE NUMBER] 09/22/08.
| Asia Link, Flat 1022, 10/F, No. 1 Hung To Rd., Kwun Tong, Kowloon, Hong Kong | For all items subject to the EAR. (See § 744.11 of the EAR) | Presumption of denial | 73 FR [INSERT FR PAGE NUMBER] 09/22/08.
| Britestone, 4/F, Chinabest International Centre, 8 Kwai On Rd., Kwai Chung, N.T., Hong Kong | For all items subject to the EAR. (See § 744.11 of the EAR) | Presumption of denial | 73 FR [INSERT FR PAGE NUMBER] 09/22/08.
| Bruce Lam, 11/F Excelsior Bldg., 68-76 Sha Tsui Rd., Tsuen Wan, New Territories, Hong Kong | For all items subject to the EAR. (See § 744.11 of the EAR) | Presumption of denial | 73 FR [INSERT FR PAGE NUMBER] 09/22/08.
| Creative Electronics, Room 2202c, 22/F, Nan Fung Centre, 264-298 Castle Peak Road, Hong Kong and G/F 1_J Wong Chuk Street Shamshuipo, Kowloon, Hong Kong | For all items subject to the EAR. (See § 744.11 of the EAR) | Presumption of denial | 73 FR [INSERT FR PAGE NUMBER] 09/22/08.
| Frank Lam, 1206-7, 12/F New Victory House, Hong Kong | For all items subject to the EAR. (See § 744.11 of the EAR) | Presumption of denial | 73 FR [INSERT FR PAGE NUMBER] 09/22/08.
| Gary Chan, 4/F, Chinabest International Centre, 8 Kwai On Rd., Kwai Chung, N.T., Hong Kong | For all items subject to the EAR. (See § 744.11 of the EAR) | Presumption of denial | 73 FR [INSERT FR PAGE NUMBER] 09/22/08.
| Green Channel Electronics Company, Unit 902, Ricky Center, 36 Chong Yip St., Kwun Tong, Kowloon, Hong Kong | For all items subject to the EAR. (See § 744.11 of the EAR) | Presumption of denial | 73 FR [INSERT FR PAGE NUMBER] 09/22/08.
| Kong Fat Electronic Trading Limited, Unit 5, 1/F, Block A, Hoplite Industrial Centre, 3-5 Wang Tai Rd., Kowloon Bay, Kowloon, Hong Kong | For all items subject to the EAR. (See § 744.11 of the EAR) | Presumption of denial | 73 FR [INSERT FR PAGE NUMBER] 09/22/08.
| Pelorus Enterprises Limited, 12F Commercial VIP Building, 112-116 Canton Rd., Tsim Sha Tsui, Hong Kong | For all items subject to the EAR. (See § 744.11 of the EAR) | Presumption of denial | 73 FR [INSERT FR PAGE NUMBER] 09/22/08.
| Polar Star International Co. Ltd., 1905 Yen Sheng Center, 64 Hoi Yuen Rd., Kwun Tong, Kin, Hong Kong | For all items subject to the EAR. (See § 744.11 of the EAR) | Presumption of denial | 73 FR [INSERT FR PAGE NUMBER] 09/22/08.
| Speedy Electronics Ltd., 1206-7, 12/F New Victory House, Hong Kong | For all items subject to the EAR. (See § 744.11 of the EAR) | Presumption of denial | 73 FR [INSERT FR PAGE NUMBER] 09/22/08.
| Techlink Electronics, Unit 5, 18/F, Laurels Industrial Centre, 32 Tai Yau St., San Po Kong, Kowloon, Hong Kong | For all items subject to the EAR. (See § 744.11 of the EAR) | Presumption of denial | 73 FR [INSERT FR PAGE NUMBER] 09/22/08.
| TLG Electronics, Room 1701, New Commerce Centre, 19 On Sum St., Siu Lek Yuen, Shatin, N.T., Hong Kong | For all items subject to the EAR. (See § 744.11 of the EAR) | Presumption of denial | 73 FR [INSERT FR PAGE NUMBER] 09/22/08.
| Unite Chance Technology Company, Workshop A14, 5/F, Block A Sheung Shui Plaza, 3 Ka Fu Close Sheung Shui, N.T., Hong Kong | For all items subject to the EAR. (See § 744.11 of the EAR) | Presumption of denial | 73 FR [INSERT FR PAGE NUMBER] 09/22/08.
| United Sources Industrial Enterprises, 11/F, Excelsior Building, 68-76 Sha Tsui Road, Hong Kong | For all items subject to the EAR. (See § 744.11 of the EAR) | Presumption of denial | 73 FR [INSERT FR PAGE NUMBER] 09/22/08.
| Wing Shing Computer Components Company (H.K.) Ltd., Unit E, 9/F, Lladro Centre, 72 Hoi Yuen Rd., Kwon Tong, Kin, Hong Kong | For all items subject to the EAR. (See § 744.11 of the EAR) | Presumption of denial | 73 FR [INSERT FR PAGE NUMBER] 09/22/08.
| Y-Sing Components Limited, Unit 401, Harbour Ctr., Tower 2, 8 Hok Cheung Street, Hung Hom, Kowloon, Hong Kong | For all items subject to the EAR. (See § 744.11 of the EAR) | Presumption of denial | 73 FR [INSERT FR PAGE NUMBER] 09/22/08.
* * * * * * *
Iran | Aflak Micro Electronics, Tehranno 14, Golkade St., Arash Mehr Ave., Tehran, Iran | For all items subject to the EAR. (See § 744.11 of the EAR) | Presumption of denial | 73 FR [INSERT FR PAGE NUMBER] 09/22/08.
| Ahmad Rahzad, a.k.a., Saeb Karim, 29, 1st Floor, Amjad Bldg., Jomhoori Ave., Tehran, Iran (See alternate address under Malaysia) | For all items subject to the EAR. (See § 744.11 of the EAR) | Presumption of denial | 73 FR [INSERT FR PAGE NUMBER] 09/22/08.
| Ali Reza Seif, 34 Mansour Street, Tehran, Iran | For all items subject to the EAR. (See § 744.11 of the EAR) | Presumption of denial | 73 FR [INSERT FR PAGE NUMBER] 09/22/08.
| Arash Dadgar, No. 10, 64th St., Yousafabad, Tehran, Iran, 14368 | For all items subject to the EAR. (See § 744.11 of the EAR) | Presumption of denial | 73 FR [INSERT FR PAGE NUMBER] 09/22/08.
* * * * * * *
| Bahman Ghandi, a.k.a., Brian Ghandi, No. 14, Golkadeh St., Arashmehr St., Tehran, Iran | For all items subject to the EAR. (See § 744.11 of the EAR) | Presumption of denial | 73 FR [INSERT FR PAGE NUMBER] 09/22/08.
| Elecomponents, Iran | For all items subject to the EAR. (See § 744.11 of the EAR) | Presumption of denial | 73 FR [INSERT FR PAGE NUMBER] 09/22/08.
| Faradis Production, No. 33, Second Floor, Amjad Electronic Center, Jomhouri Ave., Tehran, Iran | For all items subject to the EAR. (See § 744.11 of the EAR) | Presumption of denial | 73 FR [INSERT FR PAGE NUMBER] 09/22/08.
| Farhad Maani, 67, 1st Floor, No. 3, Ebn-E Sina St., Mr. ValiAsr Ave., W. of Beheshti, Tehran, Iran | For all items subject to the EAR. (See § 744.11 of the EAR) | Presumption of denial | 73 FR [INSERT FR PAGE NUMBER] 09/22/08.
| GBNTT, No. 34 Mansour Street, Tehran, Iran | For all items subject to the EAR. (See § 744.11 of the EAR) | Presumption of denial | 73 FR [INSERT FR PAGE NUMBER] 09/22/08.
| Golza Engineering Company, No. 80/1, Fourth Floor, North Sindokht St., Dr. Fatemi Ave., Tehran, 14118, Iran | For all items subject to the EAR. (See § 744.11 of the EAR) | Presumption of denial | 73 FR [INSERT FR PAGE NUMBER] 09/22/08.
| Hamid Reza Ansarian, P.O. Box 19575-354, Tehran, Iran | For all items subject to the EAR. (See § 744.11 of the EAR) | Presumption of denial | 73 FR [INSERT FR PAGE NUMBER] 09/22/08.
| Iraj Najmi, No. 80/1, Fourth Floor, North Sindokht St., Dr. Fatemi Ave., Tehran, 14118, Iran | For all items subject to the EAR. (See § 744.11 of the EAR) | Presumption of denial | 73 FR [INSERT FR PAGE NUMBER] 09/22/08.
* * * * * * *
| Maryan Jahanshahi, 34 Mansour St., Motahari-ValiAsr Street Junction, Tehran, Iran | For all items subject to the EAR. (See § 744.11 of the EAR) | Presumption of denial | 73 FR [INSERT FR PAGE NUMBER] 09/22/08.
* * * * * * *
| Mohammed Narjespour, 34 Mansour St., ValiAsr-Motahari Crossing, Tehran, Iran | For all items subject to the EAR. (See § 744.11 of the EAR) | Presumption of denial | 73 FR [INSERT FR PAGE NUMBER] 09/22/08.
| Moslem Nasiri, 34 Mansour St., ValiAsr-Motahari Crossing, Tehran, Iran | For all items subject to the EAR. (See § 744.11 of the EAR) | Presumption of denial | 73 FR [INSERT FR PAGE NUMBER] 09/22/08.
| M.R. Ahmadi, P.O. Box 19575/199, Tehran, Iran | For all items subject to the EAR. (See § 744.11 of the EAR) | Presumption of denial | 73 FR [INSERT FR PAGE NUMBER] 09/22/08.
| NBC Navegan Bar Co. Ltd., # 135 Khorramshahr Ave., Tehran 15338 | For all items subject to the EAR. (See § 744.11 of the EAR) | Presumption of denial | 73 FR [INSERT FR PAGE NUMBER] 09/22/08.
| Neda Industrial Group, No. 10 and 12, 64th St. Jamalodin Asadabadi Avenue, Tehran, Iran | For all items subject to the EAR. (See § 744.11 of the EAR) | Presumption of denial | 73 FR [INSERT FR PAGE NUMBER] 09/22/08.
| Nedayeh Micron Electronics, No. 34 Mansour St., Tehran, Iran | For all items subject to the EAR. (See § 744.11 of the EAR) | Presumption of denial | 73 FR [INSERT FR PAGE NUMBER] 09/22/08.
| Niasan Century Industry, Unit 2, GF, No.:1, Marzban Name Alley, Mofateh St., Motahari Ave., 1588875333, Tehran, Iran | For all items subject to the EAR. (See § 744.11 of the EAR) | Presumption of denial | 73 FR [INSERT FR PAGE NUMBER] 09/22/08.
| Rad Tavan Afza Company, 3rd Floor, No. 210, W. Fatemi, Tehran, Iran 14185387 and 1st Pars Bldg., Beg. Pars Alley, Betw Khosh & Behboudi St., Azadi Ave., Tehran, Iran | For all items subject to the EAR. (See § 744.11 of the EAR) | Presumption of denial | 73 FR [INSERT FR PAGE NUMBER] 09/22/08.
| Sanaye Electronic Arman Ertebat Nemad Company (SAEN CO.), 67, 1st Floor, No. 3, Ebn-E Sina St., Mr. ValiAsr Ave., W. of Beheshti, Tehran, Iran | For all items subject to the EAR. (See § 744.11 of the EAR) | Presumption of denial | 73 FR [INSERT FR PAGE NUMBER] 09/22/08.
* * * * * * *
| Simin Neda Industrial and Electrical Parts, No. 22, Second Floor, Amjad Bldg., Jomhoori Ave., Tehran, Iran | For all items subject to the EAR. (See § 744.11 of the EAR) | Presumption of denial | 73 FR [INSERT FR PAGE NUMBER] 09/22/08.
| Toos Electronics, 29, 1st Floor, Amjad Bldg., Jomhoori Ave., Tehran, Iran | For all items subject to the EAR. (See § 744.11 of the EAR) | Presumption of denial | 73 FR [INSERT FR PAGE NUMBER] 09/22/08.
| Vizneh Trading Company, 34 Mansour St., Motahari and ValiAsr Junction, Tehran, Iran, 1595747764 | For all items subject to the EAR. (See § 744.11 of the EAR) | Presumption of denial | 73 FR [INSERT FR PAGE NUMBER] 09/22/08.
* * * * * * *
Kuwait | Advanced Technology General Trading Company, Hawalli, Bin Khaldoun St., Fadhalah Complex, Mizzanin, Office #4, P.O. Box 22682, Safat, 13087, Kuwait. (See alternate address under U.A.E.) | For all items subject to the EAR. (See § 744.11 of the EAR) | Presumption of denial | 73 FR [INSERT FR PAGE NUMBER] 09/22/08.
| Abubakr Abuelazm, Hawalli, Bin Khaldoun St., Fadhalah Complex, Mizzanin, Office #4, P.O. Box 22682, Safat, 13087, Kuwait (See alternate address under U.A.E.) | For all items subject to the EAR. (See § 744.11 of the EAR) | Presumption of denial | 73 FR [INSERT FR PAGE NUMBER] 09/22/08.
Lebanon | EKT Electronics, 1st floor, Hujij Building, Korniche Street, P.O. Box 817 No. 3, Beirut, Lebanon (See alternate address under Syria) | For all items subject to the EAR. (See § 744.11 of the EAR) | Presumption of denial | 73 FR [INSERT FR PAGE NUMBER] 09/22/08.
| Mohammed Katranji, 1st floor, Hujij Building, Korniche Street, P.O. Box 817 No. 3, Beirut, Lebanon (See alternate address under Syria) | For all items subject to the EAR. (See § 744.11 of the EAR) | Presumption of denial | 73 FR [INSERT FR PAGE NUMBER] 09/22/08.
Malaysia | Ace Hub System, No. 15, Jalan PJS 11/16, Taman Bandar Sunway, 46150 Petaling Jaya, Selangor, Malaysia | For all items subject to the EAR. (See § 744.11 of the EAR) | Presumption of denial | 73 FR [INSERT FR PAGE NUMBER] 09/22/08.
| Ahmad Rahzad, a.k.a., Saeb Karim, 27-06, Amcorp Bldg., Jalan 18, Persiaran Barat, Petaling Jaya, 46050 Selangor, Malaysia (See alternate address under Iran) | For all items subject to the EAR. (See § 744.11 of the EAR) | Presumption of denial | 73 FR [INSERT FR PAGE NUMBER] 09/22/08.
| Analytical Solutions, #GB (Ground Floor), Pearl Tower, O.G. Heights, Jalan Awan Cina, 58200 Kuala Lampur, Malaysia | For all items subject to the EAR. (See § 744.11 of the EAR) | Presumption of denial | 73 FR [INSERT FR PAGE NUMBER] 09/22/08.
| Ann Teck Tong, 97C, Jalan Kenari 23, Puchong Jaya, Puchong, Selangor, Malaysia Suite D23, Tkt. 2, Plaza Pekeliling, Jalan Tun Razak, Kuala Lumpur, Wilayah, Peresekkutuan, Malaysia | For all items subject to the EAR. (See § 744.11 of the EAR) | Presumption of denial | 73 FR [INSERT FR PAGE NUMBER] 09/22/08.
| Antcorp System, 5-02 Wisma Pantai, Jalan Wisma Pantai, 12200 Butterworth, Penang, Malaysia | For all items subject to the EAR. (See § 744.11 of the EAR) | Presumption of denial | 73 FR [INSERT FR PAGE NUMBER] 09/22/08.
| Brian Kaam, a.k.a., Kaam Chee Mun, No. 15, Jalan PJS 11/16, Taman Bandar Sunway, 46150 Petaling Jaya, Selangor, Malaysia | For all items subject to the EAR. (See § 744.11 of the EAR) | Presumption of denial | 73 FR [INSERT FR PAGE NUMBER] 09/22/08.
| East Tech, Malaysia | For all items subject to the EAR. (See § 744.11 of the EAR) | Presumption of denial | 73 FR [INSERT FR PAGE NUMBER] 09/22/08.
| Eco Biochem SDN BHD, No. 15, Jalan PJS 11/16, Taman Bandar Sunway, 46150 Petaling Jaya, Selangor D.E., Malaysia | For all items subject to the EAR. (See § 744.11 of the EAR) | Presumption of denial | 73 FR [INSERT FR PAGE NUMBER] 09/22/08.
| Festsco Marketing SDN BHD, 97C, Jalan Kenari 23, Puchong Jaya, Puchong, Selangor, Malaysia and Suite D23, Tkt. 2, Plaza Pekeliling, Jalan Tun Razak; Kuala Lumpur, Wilayah Persekkutuan, Malaysia | For all items subject to the EAR. (See § 744.11 of the EAR) | Presumption of denial | 73 FR [INSERT FR PAGE NUMBER] 09/22/08.
| Majid Seif, a.k.a., Mark Ong and Matti Chong, 27-06 Amcorp Building, Jalan 18, Persiaran Barat 46050 Petaling Jaya, Selangor, Malaysia | For all items subject to the EAR. (See § 744.11 of the EAR) | Presumption of denial | 73 FR [INSERT FR PAGE NUMBER] 09/22/08.
| Mohd Ansari, #GB (Ground Floor), Pearl Tower, O.G. Heights, Jalan Awan Cina, 58200 Kuala Lampur, Malaysia | For all items subject to the EAR. (See § 744.11 of the EAR) | Presumption of denial | 73 FR [INSERT FR PAGE NUMBER] 09/22/08.
| Nexus Empire, a.k.a., Vast Solution 2706, Amcorp Bldg., Jalan Persiaran Barat, Petaling Jaya, Selangor, Malaysia | For all items subject to the EAR. (See § 744.11 of the EAR) | Presumption of denial | 73 FR [INSERT FR PAGE NUMBER] 09/22/08.
| Vast Solution Sdn Bhd., 27-06 Amcorp Building, Jalan 18, Persiaran Barat, 46050 Petaling Jaya, Selangor, Malaysia | For all items subject to the EAR. (See § 744.11 of the EAR) | Presumption of denial | 73 FR [INSERT FR PAGE NUMBER] 09/22/08.
| VTE Industrial Automation SDN BHD, 97C, Jalan Kenari 23, Puchong Jaya, Puchong, Selangor, Malaysia | For all items subject to the EAR. (See § 744.11 of the EAR) | Presumption of denial | 73 FR [INSERT FR PAGE NUMBER] 09/22/08.
* * * * * * *
Singapore | Cyberinn PTE LTD, 1 Rochor Canal Road, #06-07 Sim Lim Square, 188504, Singapore | For all items subject to the EAR. (See § 744.11 of the EAR) | Presumption of denial | 73 FR [INSERT FR PAGE NUMBER] 09/22/08.
| Strive Components, Block 10 Toa Payoh Industrial Park Lor 8 #01-1221, Singapore, 319062 | For all items subject to the EAR. (See § 744.11 of the EAR) | Presumption of denial | 73 FR [INSERT FR PAGE NUMBER] 09/22/08.
| Synoptics Imaging Systems Pte Ltd., 12 Lor Bakar Batu #06-09, Singapore, 348745 | For all items subject to the EAR. (See § 744.11 of the EAR) | Presumption of denial | 73 FR [INSERT FR PAGE NUMBER] 09/22/08.
South Korea | WASTEC, Inc., a.k.a., With Advanced Systemic Technology, Room 3303, 3304, Na-Dong Chungang Circulation Complex, #1258, Gurobon-Dong, Guro-gu, Seoul, South Korea | For all items subject to the EAR. (See § 744.11 of the EAR) | Presumption of denial | 73 FR [INSERT FR PAGE NUMBER] 09/22/08.
Syria | EKT Electronics, 1st floor, Abbasieh Building, Hijaz Street, P.O. Box 10112, Damascus, Syria (See alternate address under Lebanon) | For all items subject to the EAR. (See § 744.11 of the EAR) | Presumption of denial | 73 FR [INSERT FR PAGE NUMBER] 09/22/08.
| Encyclopedia Electronics Center, Musalam Al-Baroudi Street, Halbouni, Damascus, Syria | For all items subject to the EAR. (See § 744.11 of the EAR) | Presumption of denial | 73 FR [INSERT FR PAGE NUMBER] 09/22/08.
* * * * * * *
| Mohammed Katranji, 1st floor, Abbasieh Building, Hijaz Street, P.O. Box 10112, Damascus, Syria; (See alternate address under Lebanon) | For all items subject to the EAR. (See § 744.11 of the EAR) | Presumption of denial | 73 FR [INSERT FR PAGE NUMBER] 09/22/08.
* * * * * * *
United Arab Emirates | A.H. Shamnad, P.O. Box 42340, Dubai, U.A.E.; and No. 3-4 Sharafia Ahmed Ali Building, Al Nakheel, Deira, Dubai 396, U.A.E | For all items subject to the EAR. (See § 744.11 of the EAR) | Presumption of denial | 73 FR [INSERT FR PAGE NUMBER] 09/22/08.
| Abubakr Abuelazm, Dubai, U.A.E. (See alternate address under Kuwait) | For all items subject to the EAR. (See § 744.11 of the EAR) | Presumption of denial | 73 FR [INSERT FR PAGE NUMBER] 09/22/08.
| Advanced Technology General Trading Company, Hawalli, Bin Khaldoun St., Fadhalah Complex, Mizzanin, Office #4, P.O. Box 22682, Safat 13087, Dubai, U.A.E. (See alternate address under Kuwait) | For all items subject to the EAR. (See § 744.11 of the EAR) | Presumption of denial | 73 FR [INSERT FR PAGE NUMBER] 09/22/08.
| Akbar Ashraf Vaghefi, Shop No. 3-4 Sharafia Ahmed Ali Building, Al Nakheel, Deira, Dubai, U.A.E.; (See alternate address under Germany) | For all items subject to the EAR. (See § 744.11 of the EAR) | Presumption of denial | 73 FR [INSERT FR PAGE NUMBER] 09/22/08.
| Al-Faris, RAK Free Zone, P.O. Box 10559, Ras Al Khaimah, U.A.E | For all items subject to the EAR. (See § 744.11 of the EAR) | Presumption of denial | 73 FR [INSERT FR PAGE NUMBER] 09/22/08.
| Ali Akbar Yahya, 505 Siraj Building 17B Street, Mankhool, Dubai, U.A.E | For all items subject to the EAR. (See § 744.11 of the EAR) | Presumption of denial | 73 FR [INSERT FR PAGE NUMBER] 09/22/08.
| Ali Reza Divanizadeh, Al Ras Center Building, Behind Al Ras Hotel, Shop No. B-05, P.O. Box 5680, Dubai, U.A.E | For all items subject to the EAR. (See § 744.11 of the EAR) | Presumption of denial | 73 FR [INSERT FR PAGE NUMBER] 09/22/08.
| Amir Mohammad Zahedi, RAK Free Zone, P.O. Box 10559, Ras Al Khaimah, U.A.E | For all items subject to the EAR. (See § 744.11 of the EAR) | Presumption of denial | 73 FR [INSERT FR PAGE NUMBER] 09/22/08.
| Antony Emmanuel, No. 3 & 4, Sharifia Ahmed Ali Bldg., P.O. Box 42340, Al Nakheel, Deira, Dubai, U.A.E. (See alternate address under Hong Kong) | For all items subject to the EAR. (See § 744.11 of the EAR) | Presumption of denial | 73 FR [INSERT FR PAGE NUMBER] 09/22/08.
| Atlinx Electronics, Flat 401-Bin Yas Center Al Maktum Road, P.O. Box 42340, Dubai, U.A.E.; and Shops 3-4, Sharafia Ahmed Ali Building, al-Nakheel, Deira, Dubai, U.A.E | For all items subject to the EAR. (See § 744.11 of the EAR) | Presumption of denial | 73 FR [INSERT FR PAGE NUMBER] 09/22/08.
* * * * * * *
| Danoush Trading Company, No. 104, Beside Kheibar Hotel, Morshed Market St., Dubai, U.A.E | For all items subject to the EAR. (See § 744.11 of the EAR) | Presumption of denial | 73 FR [INSERT FR PAGE NUMBER] 09/22/08.
| Divanizadeh General Trading Company, Al Ras Center Building, Behind Al Ras Hotel, Shop No. B-05, P.O. Box 5680, Dubai, U.A.E | For all items subject to the EAR. (See § 744.11 of the EAR) | Presumption of denial | 73 FR [INSERT FR PAGE NUMBER] 09/22/08.
* * * * * * *
| Farrokh Nia Yaghmaei, a.k.a. Farrokh Nia Yaghmayi, Flat 401-Bin Yas Center—Al Maktum Road, P.O. Box 42340, Dubai, U.A.E.; and Shops 3-4, Sharafia Ahmed Ali Building, al-Nakheel, Deira, Dubai, U.A.E | For all items subject to the EAR. (See § 744.11 of the EAR) | Presumption of denial | 73 FR [INSERT FR PAGE NUMBER] 09/22/08.
| Feroz Jafar, Al Salam St., P.O. Box 2946, Abu Dhabi, U.A.E. | For all items subject to the EAR. (See § 744.11 of the EAR) | Presumption of denial | 73 FR [INSERT FR PAGE NUMBER] 09/22/08.
| H. Ghasir, Flat 401-Bin Yas Center—Al Maktum Road, P.O. Box 42340, Dubai, U.A.E.; and Shops 3-4, Sharafia Ahmed Ali Building, al-Nakheel, Deira, Dubai, U.A.E | For all items subject to the EAR. (See § 744.11 of the EAR) | Presumption of denial | 73 FR [INSERT FR PAGE NUMBER] 09/22/08.
| Hamed Al Fahid Trading Company, Shop No. 3-4, Ahmed Ali Bldg., Al Jalel, Deira, Dubai, U.A.E | For all items subject to the EAR. (See § 744.11 of the EAR) | Presumption of denial | 73 FR [INSERT FR PAGE NUMBER] 09/22/08.
| Hamed Athari, No. 3-4 Sharafia Ahmed Ali Building, Al Nakheel, Deira, Dubai 396, U.A.E | For all items subject to the EAR. (See § 744.11 of the EAR) | Presumption of denial | 73 FR [INSERT FR PAGE NUMBER] 09/22/08.
| Majidco Micro Electronics, Flat 401-Bin Yas Center—Al Maktum Road, P.O. Box 42340, Dubai, U.A.E.; and Shops 3-4, Sharafia Ahmed Ali Building, al-Nakheel, Deira, Dubai, U.A.E | For all items subject to the EAR. (See § 744.11 of the EAR) | Presumption of denial | 73 FR [INSERT FR PAGE NUMBER] 09/22/08.
| Mayrow General Trading, Flat 401-Bin Yas Center—Al Maktum Road, P.O. Box 42340, Dubai, U.A.E.; Shops 3-4, Sharafia Ahmed Ali Building, al-Nakheel, Deira, Dubai, U.A.E.; P.O. Box 42340, Deira, Dubayy, U.A.E. and P.O. Box 171978, Deira, Dubayy, U.A.E | For all items subject to the EAR. (See § 744.11 of the EAR) | Presumption of denial | 73 FR [INSERT FR PAGE NUMBER] 09/22/08.
| Mayrow Technics Co., No. 3-4 Sharafia Ahmed Ali Building, Al Nakheel, Deira, Dubai 396, U.A.E | For all items subject to the EAR. (See § 744.11 of the EAR) | Presumption of denial | 73 FR [INSERT FR PAGE NUMBER] 09/22/08.
| Mehdi Rafie, Shop No. 3 & 4, Sharafia Ahmed Ali Bldg., Al Nakheel St., Deira, P.O. Box 171978, Dubai, U.A.E | For all items subject to the EAR. (See § 744.11 of the EAR) | Presumption of denial | 73 FR [INSERT FR PAGE NUMBER] 09/22/08.
| Mehran Kamalinia, a.k.a. Ronald Simon, Shop No. 3 & 4, Sharafia Ahmed Ali Bldg., Al Nakheel St., Deira, P.O. Box 171978, Dubai, U.A.E | For all items subject to the EAR. (See § 744.11 of the EAR) | Presumption of denial | 73 FR [INSERT FR PAGE NUMBER] 09/22/08.
| Micatic General Trading, Flat 401-Bin Yas Center—Al Maktum Road, P.O. Box 42340, Dubai, U.A.E.; and Shops 3-4, Sharafia Ahmed Ali Building, al-Nakheel, Deira, Dubai, U.A.E | For all items subject to the EAR. (See § 744.11 of the EAR) | Presumption of denial | 73 FR [INSERT FR PAGE NUMBER] 09/22/08.
| Micro Middle East Electronics, Flat 401-Bin Yas Center—Al Maktum Road, P.O. Box 42340, Dubai, U.A.E.; and Shops 3-4, Sharafia Ahmed Ali Building, al-Nakheel, Deira, Dubai, U.A.E | For all items subject to the EAR. (See § 744.11 of the EAR) | Presumption of denial | 73 FR [INSERT FR PAGE NUMBER] 09/22/08.
| Mohsen Saghafi, Shop No. 3 & 4, Sharafia Ahmed Ali Bldg., Al Nakheel St., Deira, P.O. Box 171978, Dubai, U.A.E | For all items subject to the EAR. (See § 744.11 of the EAR) | Presumption of denial | 73 FR [INSERT FR PAGE NUMBER] 09/22/08.
| Mostafa Salehi, No. 308, 3rd Floor, Rafi Center, Al Nakheel, Deira, Dubai, U.A.E | For all items subject to the EAR. (See § 744.11 of the EAR) | Presumption of denial | 73 FR [INSERT FR PAGE NUMBER] 09/22/08.
| Narinco, Flat 401-Bin Yas Center—Al Maktum Road, P.O. Box 42340, Dubai, U.A.E.; and Shops 3-4, Sharafia Ahmed Ali Building, al-Nakheel, Deira, Dubai, U.A.E | For all items subject to the EAR. (See § 744.11 of the EAR) | Presumption of denial | 73 FR [INSERT FR PAGE NUMBER] 09/22/08.
| Neda Kargar, No. 308, 3rd Floor, Rafi Center, Al Nakheel, Deira, Dubai, U.A.E | For all items subject to the EAR. (See § 744.11 of the EAR) | Presumption of denial | 73 FR [INSERT FR PAGE NUMBER] 09/22/08.
| Neda Overseas Electronics L.L.C., No. 308, 3rd Floor, Rafi Center, Al Nakheel, Deira, Dubai, U.A.E | For all items subject to the EAR. (See § 744.11 of the EAR) | Presumption of denial | 73 FR [INSERT FR PAGE NUMBER] 09/22/08.
| Pyramid Technologies, P.O. Box 42340, Dubai, U.A.E.; and No. 3-4, Sharafia Ahmed Ali Building, Al Nakheel, Deira, Dubai 396, U.A.E | For all items subject to the EAR. (See § 744.11 of the EAR) | Presumption of denial | 73 FR [INSERT FR PAGE NUMBER] 09/22/08.
| S. Basheer, No. 3-4 Sharafia Ahmed Ali Building, Al Nakheel, Deira, Dubai 396, U.A.E | For all items subject to the EAR. (See § 744.11 of the EAR) | Presumption of denial | 73 FR [INSERT FR PAGE NUMBER] 09/22/08.
| Sayed-Ali Hosseini, 201 Latifah Building, Al Maktoum St., Dubai, U.A.E | For all items subject to the EAR. (See § 744.11 of the EAR) | Presumption of denial | 73 FR [INSERT FR PAGE NUMBER] 09/22/08.
| Shaji Muhammed Basheer, Shop No. 3 & 4, Sharafia Ahmed Ali Bldg., Al Nakheel St., Deira, P.O. Box 171978, Dubai, U.A.E | For all items subject to the EAR. (See § 744.11 of the EAR) | Presumption of denial | 73 FR [INSERT FR PAGE NUMBER] 09/22/08.
| Telectron, Al Salam St., P.O. Box 2946, Abu Dhabi, U.A.E | For all items subject to the EAR. (See § 744.11 of the EAR) | Presumption of denial | 73 FR [INSERT FR PAGE NUMBER] 09/22/08.

Dated: September 17, 2008.
Christopher R. Wall,
Assistant Secretary for Export Administration.

[FR Doc. E8-22088 Filed 9-19-08; 8:45 am]

BILLING CODE 3510-33-P